DEPARTMENT OF HOMELAND SECURITY

Federal Emergency Management Agency

44 CFR Part 67

[Docket ID FEMA-2010-0003; Internal Agency Docket No. FEMA-B-1170]

Proposed Flood Elevation Determinations

AGENCY: Federal Emergency Management Agency, DHS.

ACTION: Proposed rule; correction.

SUMMARY: On January 7, 2011, FEMA published in the Federal Register a proposed rule that included an erroneous Base Flood Elevation (BFE) for the Skykomish River in Snohomish County, Washington. The BFE currently in effect for the location approximately 216 feet downstream of Burlington Northern Santa Fe Railway should have been listed as 355 feet, referenced to the North American Vertical Datum of 1988.

DATES: Comments pertaining to the Skykomish River BFE for the location approximately 216 feet downstream of Burlington Northern Santa Fe Railway are to be submitted on or before May 23, 2011.

ADDRESSES: You may submit comments, identified by Docket No. FEMA-B-1170, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 76 FR 1121, in the January 7, 2011, issue of the Federal Register, FEMA published a table under the authority of 44 CFR 67.4. The table, entitled “Snohomish County, Washington, and Incorporated Areas” addressed several flooding sources, including the Skykomish River. The proposed rule incorrectly listed the effective BFE for the Skykomish River, for the location approximately 216 feet downstream of Burlington Northern Santa Fe Railway. The effective BFE for that location was listed as 359 feet, referenced to the North American Vertical Datum of 1988. The correct effective BFE is 355 feet, referenced to the North American Vertical Datum of 1988. The proposed modified BFE was correctly listed as 351 feet, referenced to the North American Vertical Datum of 1988. This proposed rule correction is reopening the comment period for the Skykomish River, for the location approximately 216 feet downstream of Burlington Northern Santa Fe Railway, due to the error in listing the effective BFE in the previously published proposed rule at 76 FR 1121.

(Catalog of Federal Domestic Assistance No. 97.022, “Flood Insurance.”)

Dated: February 11, 2011.
Sandra K. Knight,
Deputy Federal Insurance and Mitigation Administrator, Mitigation, Department of Homeland Security, Federal Emergency Management Agency.

[FR Doc. 2011-3865 Filed 2-18-11; 8:45 am]

BILLING CODE 9110-12-P